DEPARTMENT OF ENERGY

Federal Energy Regulatory Commission

[Docket No. AC14-82-000]

Trans-Union Interstate Pipeline, L.P. (Trans-Union); Notice of Filing

Take notice that on April 15, 2014, Trans-Union Interstate Pipeline, L.P. (Trans-Union) submitted a request for a waiver of the reporting requirement to file the FERC Form 2-A for 2013. Trans-Union hereby notifies the Federal Energy Regulatory Commission (“Commission”) of a non-material change from the facts relied upon by the Commission in granting Trans-Union waivers of (1) the requirements to file a complete Form No. 2-A, (2) certain standards of conduct, and (3) certain North American Energy Standards Board (“NAESB”) standards. Grant of these waivers was based in part on Trans-Union's representation that it had only one shipper on its interstate pipeline—Union Power Partners, L.P. (“Union Power'), an affiliated, electric generator. However, pursuant to a three-year tolling agreement between Union Power and Entergy Arkansas, Inc. (“EAI”), EAI began receiving transportation service from Trans-Union on December 19, 2013 under a limited-term capacity release under Union Power's transportation agreement. This change in facts should not impact current or future waivers. Therefore, Trans-Union respectfully requests, under Rule 212 of the Commission's Rules of Practice and Procedure, 18 CFR 385.212, waiver of the requirement to file a complete Form No. 2-A for the calendar year 2013. The Commission has granted this waiver every year since 2006, most recently in a letter order issued in Docket No. AC13-99-000. Specifically, consistent with the Commission's May 21 Letter Order, Trans-Union is electronically filing concurrently herewith the pages of Form No. 2-A which are relevant to the determination of the annual charge adjustment (“ACA”), that is, pages 1 and 520, for calendar year 2013 and requests waiver of the requirement to file the remainder of the form.

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC. 20426.

This filing is accessible on-line at http://www.ferc.gov, using the “eLibrary” link and is available for review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 27, 2014.

Dated: August 6, 2014.
Kimberly D. Bose,
Secretary.

[FR Doc. 2014-19037 Filed 8-11-14; 8:45 am]

BILLING CODE 6717-01-P